ENVIRONMENTAL PROTECTION AGENCY

[EPA-HQ-OPP-2025-0024; FRL-12473-05-OCSPP]

Pesticide Product Registration; Receipt of Applications for New Active Ingredients (March-May 2025)

AGENCY: Environmental Protection Agency (EPA).

ACTION: Notice of receipt and request for comment.

SUMMARY: This document announces the Agency's receipt of and solicits comment on applications to register pesticide products containing active ingredients not included in any currently registered pesticide products. The Agency is providing this notice in accordance with the Federal Insecticide, Fungicide, and Rodenticide Act (FIFRA). EPA uses the month and year in the title to identify when the Agency compiled the applications identified in this notice of receipt. Unit II. of this document identifies certain applications received in 2023 and 2024 that are currently being evaluated by EPA, along with information about each application, including when it was received, who submitted the application, and the purpose of the application.

DATES: Comments must be received on or before September 3, 2025.

ADDRESSES: Submit your comments, identified by the docket identification (ID) number and the EPA File Symbol or the EPA Registration Number of interest as shown in Unit II. of this document, online at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Each application summary in Unit II. specifies a contact division. The appropriate division contacts are identified as follows:

• BPPD (Biopesticides and Pollution Prevention Division) (Mail Code 7511M); Shannon Borges; main telephone number: (202) 566-1400; or

• RD (Registration Division) (Mail Code 7505T); Charles Smith; main telephone number: (202) 566-1030; email address: RDFRNotices@epa.gov.

SUPPLEMENTARY INFORMATION:

I. Executive Summary

A. Does this action apply to me?

This action provides information that is directed to the public in general.

B. What is the Agency's authority for taking this action?

EPA is taking this action pursuant to section 3(c)(4) of the Federal Insecticide, Fungicide, and Rodenticide Act (FIFRA), 7 U.S.C. 136a(c)(4), and 40 CFR 152.102.

C. What action is the Agency taking?

EPA is hereby providing notice of receipt and an opportunity to comment on the applications identified in Unit II. of this document that seek to register pesticide products containing active ingredients not included in any currently registered pesticide products in accordance with FIFRA. Unit II. identifies and provides basic information about applications that are currently being evaluated by EPA. Notice of receipt of these applications does not imply a decision by the Agency on these applications. For actions being evaluated under EPA's public participation process for registration actions, there will be an additional opportunity for public comment on the proposed decisions. Please see EPA's public participation website for additional information on this process (https://www.epa.gov/pesticide-registration/public-participation-process-registration-actions).

D. What should I consider as I prepare my comments for EPA?

1. Submitting CBI. Do not submit CBI to EPA through https://www.regulations.gov or email. If you wish to include CBI in your comment, please follow the applicable instructions at https://www.epa.gov/dockets/commenting-epa-dockets#rules and clearly mark the information that you claim to be CBI. In addition to one complete version of the comment that includes CBI, a copy of the comment without CBI must be submitted for inclusion in the public docket. Information marked as CBI will not be disclosed except in accordance with procedures set forth in 40 CFR part 2.

2. Tips for preparing your comments. When preparing and submitting your comments, see the commenting tips at https://www.epa.gov/dockets/commenting-epa-dockets.

II. Applications To Register New Active Ingredients

A. What information is being provided in this document?

The following information is provided for the applications identified in Unit II.B.:

• EPA File Symbol or Registration number(s);

• EPA docket ID number for the application;

• Name and address of the applicant;

• Name of the active ingredient;

• Product type;

• Proposed uses;

• Date received; and

• Division to contact for that application.

Additional information about the application may also be available in the docket identified for the application.

B. What applications are identified in this document?

EPA received and is providing a public comment opportunity for the following applications:

• EPA File Symbol: 5905-AAG. Docket ID number: EPA-HQ-OPP-2024-0053. Applicant: Helena Agri-Enterprises, LLC., 225 Schilling Blvd., Suite 300, Collierville, TN 38017. Active ingredient: Cumyluron. Product type: Herbicide. Proposed use: Formulation of herbicide products intended for use on golf course turf grass. Received: 03/06/2023. Contact: RD.

• EPA File Symbol: 5905-AAU. Docket ID number: EPA-HQ-OPP-2024-0053. Applicant: Helena Agri-Enterprises, LLC., 225 Schilling Blvd., Suite 300, Collierville, TN 38017. Active ingredient: Cumyluron. Product type: Herbicide. Proposed use: Golf course turf grass. Received: 03/06/2023. Contact: RD.

• EPA File Symbol: 94430-R. Docket ID number: (EPA-HQ-OPP-2024-0283). Applicant: WeedOUT, Ltd., c/o Ephi Gur Regulatory Consulting Inc. 2736 S. Evenfall Dr. Yuma, AZ 85635. Active ingredient: Herbicide, WDT-1, an irradiated pollen derived from non-glyphosate resistant varieties of Palmer Amaranth (Amaranthus palmeri) at 95%. Product type: WeedOUT Proposed use: Control of Palmer amaranth. Received: 12/20/2023. Contact: BPPD.

• File Symbols: 102588-R, 102588-U, and 102588-G. Docket ID number: EPA-HQ-OPP-2025-0177. Applicant: Silvec Biologics Inc. 200 Girard Street, Suite 200, Gaithersburg, MD 20877. Product names: Construct CTV-SoD2, Construct CTV-SoD2*, and Construct CTV-SoD2-1. Active ingredients: Citrus tristeza virus Expressing Spinach Defensin Protein 2, Citrus tristeza virus Expressing Spinach Defensin Protein 2*, and Citrus tristeza virus Expressing Spinach Defensin Protein 2-1. Proposed use: Plant Protectant. Received: 01/08/2024. Contact: BPPD.

• File Symbol: 103312-R. Docket ID number: EPA-HQ-OPP-2025-0211. Applicant: Soil Culture Solutions, LLC (d/b/a Soilcea), 3802 Spectrum Blvd., Suite 157, Tampa, FL 33612 Product name: CarriCea T1. Active ingredient: Loss of function gene ACD2 (Accelerated Cell Death 2) and associated Cas9 protein and gRNA sequence, Loss of function gene Lls1 (Lethal Leaf Spot 1) and associated Cas9 protein and gRNA sequence, and Loss of function gene PLCP (Papain-Like Cysteine Protease) and associated Cas9 protein and gRNA sequence in CRISPR-edited Carrizo rootstock. Proposed use: Plant-Incorporated Protectant. Received: 11/13/2024. Contact: BPPD.

• File Symbol: 29964-GA. Docket ID number: EPA-HQ-OPP-2025-0074. Applicant: Pioneer Hi-Bred International, Inc. 7300 NW 62nd Avenue, P.O. Box 1000, Johnston, IA 50131. Product name: COR23134 Soybean. Active ingredients: Insecticide; Bacillus thuringiensis Cry1B.34.1 protein and the genetic material necessary (PHP90315 T-DNA) for its production, Bacillus thuringiensis Cry1B.61.1 protein and the genetic material necessary (PHP90315 T-DNA) for its production, and Adiantum trapeziforme var. braziliense IPD083Cb protein and the genetic material necessary (PHP9035 T-DNA) for its production. Proposed classification/Use: Plant-Incorporated-Protectant (PIP) for use in soybean. Received: 2/1/2024. Contact: BPPD.

• File Symbol: 524-AAO. Docket ID number: EPA-HQ-OPP-2025-0297. Applicant: Bayer CropScience LP. Product name: MON 89151. Active ingredients: Insecticide—Bacillus thuringiensis Cry1Da_7 protein and the genetic material (Vector PV-GHIR529967) necessary for its production, Bacillus thuringiensis Cry1B.3 protein and the genetic material (Vector PV-GHIR529967) necessary for its production, and Paenibacillus spp. Vip3Cb1.1 protein and the genetic material (Vector PV-GHIR529967) necessary for its production. Proposed use: Plant-Incorporated-Protectant (PIP) for use in cotton. Received: 12/10/2024. Contact: BPPD.

• EPA Registration Number: 52991-UO. Docket ID number: EPA-HQ-OPP-2025-0209. Applicant: Bedoukian Research, Inc., 6 Commerce Drive, Danbury, CT 06810. Product name: Bedoukian z-13-Octadecenal Technical Pheromone. Active ingredient: MP pheromone—z-13-Octadecenal at 96%. Proposed use: MP pheromone that acts as a behavior modifying biochemical pesticide which functions by mating disruption. Received: 7/30/2024. Contact: BPPD.

Authority: 7 U.S.C. 136 et seq.

Dated: July 28, 2025.
Kimberly Smith,
Acting Director, Information Technology and Resources Management Division, Office of Program Support.

[FR Doc. 2025-14653 Filed 8-1-25; 8:45 am]

BILLING CODE 6560-50-P